DEPARTMENT OF DEFENSE

Department of the Navy

[Docket ID: USN-2023-HQ-0008]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 11, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of the Department of the Navy Information Management Control Officer, 2000 Navy Pentagon, Rm. 4E563, Washington, DC 20350, ATTN: Ms. Sonya Martin, or call 703-614-7585.

SUPPLEMENTARY INFORMATION: Title; Associated Form; and OMB Number: Navy Insider Threat Report; OPNAV Form 5510/423; OMB Control Number 0703-ISTF.

Needs and Uses: The U.S. Navy Insider Threat Program/Navy Analytic Hub (Navy Hub) must collect information in accordance with Executive Order 13587, Structural Reforms to Improve the Security of Classified Networks and the Responsible Sharing and Safeguarding of Classified Information, directing U.S. government executive branch departments and agencies to establish, implement, monitor, and report on the effectiveness of insider threat programs to protect classified national security information, and requires the development of an executive branch program for the deterrence, detection, and mitigation of insider threats, or other unauthorized disclosure. Accordingly, the Navy Hub is soliciting standardized information on the OPNAV Form 5510/423, “Navy Insider Threat Report. Navy Hub's mission is to prevent, detect, deter, and mitigate insider threat risks from potential malicious or unwitting Navy insiders by gathering, integrating, reviewing, assessing, and responding to information about potential insider threats. The OPNAVINST 5510.165B, “Navy Insider Threat Program,” which prescribes this new form, provides instruction to all U.S. Navy commands, activities and field offices with responsibilities as it pertains to Insider Threat. The revision of this instruction is currently pending finalization, and replacing OPNAVINST 5510.165A, published 1 Oct 2015. The OPNAV 5510/423 will be utilized as to obtain information about a potential insider threat. When an inquiry is made for help in the investigation of a potential insider threat, the Navy Hub sends the OPNAV 5510/423 to the respondent via email or they may access it on the Navy Forms On-Line (NFOL) website at https://forms.documentservices.dla.mil/order/. The OPNAV 5510/423 is completed as a fillable portable document format (PDF). The form will then be saved and transferred to the Insider Threat Hub via email or an official Navy website. Once completed by a Navy Hub analyst, the OPNAV 5510/423 will be stored on Navy networks for use by the Navy Hub. The respondents will include military, civilian, and contractor personnel who have access to government systems.

Affected Public: Individuals or households.

Annual Burden Hours: 25.

Number of Respondents: 100.

Responses per Respondent: 1.

Annual Responses: 100.

Average Burden per Response: 15 minutes.

Frequency: On Occasion.

Dated: February 7, 2023.
Aaron T. Siegel,
Alternate OSD Federal Register Liaison Officer, Department of Defense.

[FR Doc. 2023-02900 Filed 2-9-23; 8:45 am]

BILLING CODE 5001-06-P